FEDERAL MARITIME COMMISSION

Ocean Transportation Intermediary License; Revocations

The Federal Maritime Commission hereby gives notice that the following Ocean Transportation Intermediary licenses have been revoked pursuant to section 19 of the Shipping Act of 1984 (46 U.S.C. Chapter 409) and the regulations of the Commission pertaining to the licensing of Ocean Transportation Intermediaries, 46 CFR part 515, effective on the corresponding date shown below:

License Number: 018529F.

Name: Egbert Sylvester Jeffers dba Eggi's Express Shipping.

Address: 1004 Halsey Street, Brooklyn, NY 11207.

Date Revoked: August 27, 2009.

Reason: Failed to maintain a valid bond.

License Number: 020818N.

Name: Logistics Inc. dba Logistics W.W. Inc. dba Infinity Freight Services.

Address: 8621 Bellanca Ave., Ste. 104B, Los Angeles, CA 90045.

Date Revoked: August 23, 2009.

Reason: Failed to maintain a valid bond.

License Number: 020141N.

Name: Vanguard International, Inc.

Address: 117 Lakewood Circle, San Mateo, CA 94402.

Date Revoked: August 27, 2009.

Reason: Failed to maintain a valid bond.

Sandra L. Kusumoto,
Director, Bureau of Certification and Licensing.

[FR Doc. E9-21678 Filed 9-8-09; 8:45 am]

BILLING CODE 6730-01-P